ENVIRONMENTAL PROTECTION AGENCY

[FRL-9431-7]

Science Advisory Board Staff Office; Notification of a Public Meeting of the Science Advisory Board Panel for the Review of Great Lakes Restoration Initiative Action Plan

AGENCY: Environmental Protection Agency (EPA).

ACTION: Notice.

SUMMARY: The Environmental Protection Agency (EPA or Agency) Science Advisory Board (SAB) Staff Office announces a change in meeting location for a public face-to-face meeting of the SAB panel to review the interagency Great Lakes Restoration Initiative (GLRI) Action Plan (FY 2010-FY 2014) that describes restoration priorities, goals, objectives, measurable ecological targets, and specific actions for the Great Lakes.

DATES: The meeting will be held on July 12, 2011 from 9 a.m. to 5:30 p.m. and July 13, 2011 from 8 a.m. to 5 p.m. (Central Time).

ADDRESSES: The Panel meeting will be held at the EPA Region 5 Offices, The Lake Michigan Room in the Ralph H. Metcalfe Federal Building, 77 West Jackson Boulevard, Chicago, IL 60604.

FOR FURTHER INFORMATION CONTACT: Any member of the public wishing further information regarding this meeting may contact Mr. Thomas Carpenter, Designated Federal Officer (DFO), SAB Staff Office, by telephone/voice mail at (202) 564-4885; by fax at (202) 565-2098 or via e-mail at carpenter.thomas@epa.gov. General information concerning the EPA Science Advisory Board can be found at the EPA SAB Web site at http://www.epa.gov/sab.

SUPPLEMENTARY INFORMATION: Background: The SAB Staff Office requested public nominations of experts to serve on a review panel to advise the Agency on scientific and technical issues related to the GRLI Action Plan (75 FR 185 58383-58385). EPA subsequently announced on June 15, 2011 a public meeting of the panel for July 12 and 13, 2011. That notice provided instructions to submit written comments or provide oral statements and accommodations for individuals with disabilities (76 FR 115 34977-34978). This notice announces a change in the location of the public meeting.

Dated: July 1, 2011.
Vanessa T. Vu,
Director, EPA Science Advisory Staff Office.

[FR Doc. 2011-17258 Filed 7-7-11; 8:45 am]

BILLING CODE 6560-50-P